DEPARTMENT OF TRANSPORTATION

Federal Aviation Administration

14 CFR Part 39

[Docket No. FAA-2009-0224; Directorate Identifier 2007-NM-302-AD; Amendment 39-15852; AD 2009-06-15]

RIN 2120-AA64

Airworthiness Directives; Fokker Model F.27 Mark 050 Airplanes

AGENCY: Federal Aviation Administration (FAA), Department of Transportation (DOT).

ACTION: Final rule; request for comments.

SUMMARY: The FAA is superseding an existing airworthiness directive (AD) that applies to certain Fokker Model F.27 Mark 050 airplanes. The existing AD currently requires repetitive visual checks for oil leaks of both engines between the spinner and the engine cowling, and directly behind the heated intake lip of the engine; repetitive inspections for oil leaks at the feathering pump on both engines; and corrective actions if necessary. This new AD retains the requirements of the existing AD. This AD also requires replacing the outlet port (high-pressure) bobbin with a new, improved outlet port (high-pressure) bobbin, which terminates the repetitive visual checks and inspections. This AD results from reports of oil leakage at the engine feathering pump. We are issuing this AD to prevent oil loss from the feathering pump, which could cause the engine to shut down in flight.

DATES: This AD becomes effective April 8, 2009.

The Director of the Federal Register approved the incorporation by reference of a certain publication listed in the AD as of April 8, 2009.

On October 21, 2005 (70 FR 58300, October 6, 2005), the Director of the Federal Register approved the incorporation by reference of certain other publications.

We must receive comments on this AD by April 23, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

On September 26, 2005, the FAA issued AD 2005-20-21, amendment 39-14317 (70 FR 58300, October 6, 2005). That AD applies to certain Fokker Model F27 Mark 050 airplanes. That AD requires repetitive visual checks for oil leaks of both engines between the spinner and the engine cowling, and directly behind the heated intake lip of the engine; repetitive inspections for oil leaks at the feathering pump on both engines; and corrective actions if necessary. That AD resulted from reports of oil leakage at the engine feathering pump. The actions specified in that AD are intended to prevent oil loss from the feathering pump, which could cause the engine to shut down in flight.

Actions Since AD Was Issued

Since we issued that AD, Fokker Services B.V. conducted a voluntary controlled service introduction of an improved outlet port (high-pressure) bobbin part number (P/N) 638005637 to replace bobbin P/N 638005614.

The preamble to AD 2005-20-21 specifies that we consider the requirements “interim action.” That AD explains that we might consider further rulemaking if final action is later identified. The manufacturer now has developed such a modification, and we have determined that further rulemaking is indeed necessary; this AD follows from that determination.

Relevant Service Information

Fokker Services B.V. has issued Service Bulletin SBF50-61-025, dated July 4, 2007. The service bulletin describes procedures for replacing the existing outlet port (high-pressure) bobbin with a new, improved outlet port (high-pressure) bobbin. The improved bobbin design uses a gasket that significantly reduces the risk of seal failure caused by extrusion of part of the seal. Accomplishing the actions specified in the service information is intended to adequately address the unsafe condition.

The European Aviation Safety Agency (EASA), which is the Technical Agent for the Member States of the European Community, mandated the service information and issued EASA Airworthiness Directive 2007-0203, dated August 1, 2007, to ensure the continued airworthiness of these airplanes in Europe.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Therefore, we are issuing this AD to supersede AD 2005-20-21. This new AD retains the requirements of the existing AD. This AD also requires replacing the outlet port (high-pressure) bobbin with a new, improved outlet port (high-pressure) bobbin, which terminates the requirements of the AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Cost of parts | Cost per airplane
Pre-flight check, per cycle (required by AD 2005-20-21) | 1 | $80 | $0 | $80 per cycle.
Detailed inspection, per inspection cycle (required by AD 2005-20-21) | 1 | 80 | 0 | $80 per inspection cycle.
Bobbin replacement (new required action) | 8 | 80 | 468 | $1,108.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0224; Directorate Identifier 2007-NM-302-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14317 (70 FR 58300, October 6, 2005) and adding the following new AD:

2009-06-15 Fokker Services B.V.: Amendment 39-15852. Docket No. FAA-2009-0224; Directorate Identifier 2007-NM-302-AD.

Effective Date

(a) This AD becomes effective April 8, 2009.

Affected ADs

(b) This AD supersedes AD 2005-20-21.

Applicability

(c) This AD applies to Fokker Model F.27 Mark 050 airplanes, certificated in any category, as identified in Fokker Service Bulletin SBF50-61-025, dated July 4, 2007, unless engines that are installed have previously been modified in accordance with Fokker Service Bulletin SBF50-61-024.

Subject

(d) Air Transport Association (ATA) of America Code 61: Propellers/propulsors.

Unsafe Condition

(e) This AD results from reports of oil leakage at the engine feathering pump. We are issuing this AD to prevent oil loss from the feathering pump, which could cause the engine to shut down in flight.

Compliance

(f) You are responsible for having the actions required by this AD performed within the compliance times specified, unless the actions have already been done.

Restatement of the Requirements of AD 2005-20-21:

Pre-Flight Checks

(g) Before the next flight after October 21, 2005 (the effective date of AD 2005-20-21): Do a visual check for oil leaks between the spinner and the engine cowling, and from directly behind the heated intake lip, of both engines, in accordance with Fokker All Operator Message (AOM) AOF50.037 (Ref TS04.57535), dated November 2, 2004. Repeat the visual check thereafter before each flight, until the terminating action required by paragraph (m) of this AD is done. If any leak is found, before further flight, do the action in paragraph (h) of this AD, except as required by paragraph (j) of this AD.

Repetitive Detailed Inspections

(h) Except as required by paragraph (g) of this AD, at the applicable time in paragraph (h)(1) or (h)(2) of this AD: Do a detailed inspection for oil leaks at the feathering pump on both engines and do any applicable corrective action before further flight, except as required by paragraph (j) of this AD. Do all actions in accordance with the Accomplishment Instructions of Fokker Service Bulletin SBF50-61-023, dated November 3, 2004. Repeat the detailed inspection thereafter at the applicable interval in paragraph (h)(1) or (h)(2) of this AD, until the terminating action required by paragraph (m) of this AD is done.

(1) For airplanes identified in paragraph 1.A. “Effectivity,” sub-paragraph (1) of Fokker Service Bulletin SBF50-61-023, dated November 3, 2004: Do the first inspection before the next flight after October 21, 2005, and repeat the inspection thereafter before each flight.

(2) For airplanes identified in paragraph 1.A. “Effectivity,” sub-paragraph (2) of Fokker Service Bulletin SBF50-61-023, dated November 3, 2004: Do the first inspection within 32 flight hours after October 21, 2005, and repeat the inspection thereafter at intervals not to exceed 32 flight hours.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Reporting Requirement

(i) Although Fokker AOM AOF50.037 (Ref TS04.57535), dated November 2, 2004, specifies that operators should report cases of oil leakage and send failed O-rings to Fokker Services B.V., this AD does not include that requirement.

New Requirements of This AD

New Corrective Action

(j) As of the effective date of this AD: If during any inspection required by paragraph (g) or (h) of this AD, oil leakage is found at the feathering pump mounting pad of an engine, before further flight, replace bobbin part number (P/N) 638005614 with bobbin P/N 638005637 and install a gasket on the feathering pump of that engine, in accordance with the Accomplishment Instructions of Fokker Service Bulletin SBF50-61-025, dated July 4, 2007.

(k) After accomplishing the actions in paragraph (j), no person may replace an engine with one that has not been modified according to Fokker Service Bulletin SBF50-61-025, dated July 4, 2007.

(l) As of 24 months after the effective date of this AD, no person may install an engine on any airplane, unless it has been modified according to Fokker Service Bulletin SBF50-61-025, dated July 4, 2007.

Terminating Action

(m) Within 24 months after the effective date of this AD: Replace the outlet port (high-pressure) bobbin P/N 638005614 with a new, improved outlet port (high-pressure) bobbin P/N 638005637 and install a gasket on the feathering pump of that engine, in accordance with the Accomplishment Instructions of Fokker Service Bulletin SBF50-61-025, dated July 4, 2007. Doing the replacement required by this paragraph on both engines terminates the requirements of this AD.

Special Flight Permit

(n) Special flight permits, as described in Section 21.197 and Section 21.199 of the Federal Aviation Regulations (14 CFR 21.197 and 21.199), are not allowed.

Alternative Methods of Compliance (AMOCs)

(o)(1) The Manager, International Branch, ANM-116, FAA, has the authority to approve AMOCs for this AD, if requested using the procedures found in 14 CFR 39.19. Send information to Attn: Tom Rodriguez, Aerospace Engineer, International Branch, ANM-116, Transport Airplane Directorate, FAA, 1601 Lind Avenue, SW., Renton, Washington 98057-3356; telephone (425) 227-1137; fax (425) 227-1149.

(2) Before using any approved AMOC on any airplane to which the AMOC applies, notify your principal maintenance inspector (PMI) or principal avionics inspector (PAI), as appropriate, or lacking a principal inspector, your local Flight Standards District Office.

Related Information

(p) European Aviation Safety Agency Airworthiness Directive 2007-0203, dated August 1, 2007, also addresses the subject of this AD.

Material Incorporated by Reference

(q) You must use the service information identified in Table 1 of this AD, as applicable, to perform the actions that are required by this AD, unless the AD specifies otherwise.

Table 1—All Material Incorporated by Reference
Service information | Date
Fokker All Operator Message AOF50.037 (Ref TS04.57535) | November 2, 2004.
Fokker Service Bulletin SBF50-61-023 | November 3, 2004.
Fokker Service Bulletin SBF50-61-025 | July 4, 2007.

(1) The Director of the Federal Register approved the incorporation by reference of Fokker Service Bulletin SBF50-61-025, dated July 4, 2007, in accordance with 5 U.S.C. 552(a) and 1 CFR part 51.

(2) On October 21, 2005 (70 FR 58300, October 6, 2005), the Director of the Federal Register approved the incorporation by reference of Fokker Service Bulletin SBF50-61-023, dated November 3, 2004; and Fokker All Operator Message AOF50.037 (Ref TS04.57535), dated November 2, 2004.

(3) For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on February 27, 2009.
Ali Bahrami,
Manager, Transport Airplane Directorate, Aircraft Certification Service.

[FR Doc. E9-5958 Filed 3-23-09; 8:45 am]

BILLING CODE 4910-13-P